DEPARTMENT OF HOMELAND SECURITY

[Docket No. DHS-2016-0055]

Homeland Security Science and Technology Advisory Committee

AGENCY: Science and Technology Directorate, DHS.

ACTION: Committee Management; Notice of Federal Advisory Committee Meeting.

SUMMARY: The Homeland Security Science and Technology Advisory Committee (HSSTAC) will meet on September 29, 2016 virtually. The meeting will be an open session with webinar participation.

DATES: The HSSTAC will virtually meet Thursday, September 29, 2016, from 1:00 p.m.-2:30 p.m.

The meeting may close early if the committee has completed its business.

ADDRESSES: Webinar (Virtual).

FOR FURTHER INFORMATION CONTACT: Michel Kareis, HSSTAC Executive Director, S&T IAO STOP 0205, Department of Homeland Security, 245 Murray Lane, Washington, DC 20528-0205, 202-254-5617(Office), 202-254-6176 (Fax) michel.kareis@hq.dhs.gov (Email).

I. Background

Notice of this meeting is given under the Federal Advisory Committee Act (FACA), 5 U.S.C. appendix (Pub. L. 92-463). The committee addresses areas of interest and importance to the Under Secretary for Science and Technology (S&T), such as new developments in systems engineering, cyber-security, knowledge management and how best to leverage related technologies funded by other Federal agencies and by the private sector. It also advises the Under Secretary on policies, management processes, and organizational constructs as needed.

II. Registration

To pre-register for the virtual meeting (webinar) please send an email to: hsstac@hq.dhs.gov. The email should include the name(s), title, organization/affiliation, email address, and telephone number of those interested in attending. For information on services for individuals with disabilities or to request special assistance at the meeting, please contact Michel Kareis as soon as possible.

To register, email hsstac@hq.dhs.gov with the following subject line: RSVP to HSSTAC Meeting. The email should include the name(s), title, organization/affiliation, email address, and telephone number of those interested in attending.

III. Public Comment

At the end of each open session, there will be a period for oral statements. Please note that the oral statement period may end before the time indicated, following the last call for oral statements. To register as a speaker, contact the person listed in the FOR FURTHER INFORMATION CONTACT section.

To facilitate public participation, we invite public comment on the issues to be considered by the committee as listed in the “Agenda” below. Written comments must be received by September 12, 2016. Please include the docket number (DHS-2016-0055) and submit via one of the following methods:

• Federal eRulemaking Portal:http://www.regulations.gov. Follow the instructions for submitting comments.

• Email: hsstac@hq.dhs.gov. Include the docket number in the subject line of the message.

• Fax: 202-254-6176.

• Mail: Michel Kareis, HSSTAC Executive Director, S&T IAO STOP 0205, Department of Homeland Security, 245 Murray Lane, Washington, DC 20528-0205.

Instructions: All submissions received must include the words “Department of Homeland Security” and the docket number. Comments received will be posted without alteration at http://www.regulations.gov.

Docket: For access to the docket to read the background documents or comments received by the HSSTAC, go to http://www.regulations.gov and enter the docket number into the search function: DHS-2016-0055.

Agenda

The webinar will consist of a briefing on the Science Advisory Guide for Emergencies (SAGE). The SAGE tool is approved as the S&T process for leadership to attain science support information concerning homeland security incidents/emergencies in order to mitigate, respond, and recover from those incidents. Committee members will be asked to provide recommendations for contacts in one of the 33 incidents as described in the DHS Incident Response Book. An update will be provided for HSSTAC deliverables under development in the following Subcommittees: Commercialization, Social Media Working Group and IOT Smart Cities. A message from Dr. Reginald Brothers will cover the S&T priorities as it relates to HSSTAC. There will be a period for public comment prior to adjourning the meeting.

Dated: September 8, 2016.
Michel Kareis,
Executive Director, Homeland Security Science and Technology Advisory Committee.

[FR Doc. 2016-22214 Filed 9-12-16; 4:15 pm]

BILLING CODE 9110-9F-P